SOCIAL SECURITY ADMINISTRATION

[Docket No. SSA-2018-0038]

Privacy Act of 1974; System of Records

AGENCY: Office of Retirement and Disability Policy, Office of Income Security Programs, Social Security Administration (SSA).

ACTION: Notice of a Modified System of Records.

SUMMARY: In accordance with the Privacy Act and our disclosure regulations, we are issuing public notice of our intent to publish a new routine use applicable to four of our system of records. The routine use will permit disclosures we intend to make to new entities to support the administration of our representative payee program. The system of records notices (SORN) listed below maintain information used in our representative payee program, in addition to a variety of SSA's core mission operations. This notice publishes details of the proposed updates as set forth below under the caption SUPPLEMENTARY INFORMATION.

DATES: The routine uses are effective August 2, 2018. In accordance with 5 U.S.C. 552a(e)(4) and (e)(11), the public is given a 30-day period in which to submit comments. We invite public comment on the new routine uses; therefore, please submit any comments by August 2, 2018.

ADDRESSES: The public, Office of Management and Budget (OMB), and Congress may comment on this publication by writing to the Executive Director, Office of Privacy and Disclosure, Office of the General Counsel, Social Security Administration, Room G-401 West High Rise, 6401 Security Boulevard, Baltimore, Maryland 21235-6401, or through the Federal e-Rulemaking Portal at http://www.regulations.gov, please reference docket number SSA-2018-0038. All comments we receive will be available for public inspection at the above address and we will post them to http://www.regulations.gov.

FOR FURTHER INFORMATION CONTACT: Andrea Huseth, Government Information Specialist, Disclosure and Data Support Division, Office of Privacy and Disclosure, Office of the General Counsel, Social Security Administration, Room G-401 West High Rise, 6401 Security Boulevard, Baltimore, Maryland 21235-6401, telephone: (410) 965-6868, email: andrea.huseth@ssa.gov and Tristin Dorsey, Government Information Specialist, Privacy Implementation Division, Office of Privacy and Disclosure, Office of the General Counsel, Social Security Administration, Room G-401 West High Rise, 6401 Security Boulevard, Baltimore, Maryland 21235-6401, telephone: (410) 965-2950, email: tristin.dorsey@ssa.gov.

SUPPLEMENTARY INFORMATION:

I. Background and Purpose of the Proposed New Routine Use

Social Security's representative payee program provides financial management for Social Security beneficiaries and Supplemental Security Income (SSI) recipients (both hereafter referred to as beneficiaries) who are incapable of managing their benefits or payments. The representative payee's primary responsibility is to use the beneficiary's benefits or payments for current and foreseeable needs. Historically, representative payees have submitted annual accounting forms to account for the Social Security benefits or SSI payments received. In addition to the annual accounting form, we select some representative payees for additional review. This type of oversight provides a more in depth review to ensure that the representative payee is meeting his or her representative payee obligations and managing the benefits or payments in the best interest of the beneficiary that he or she is serving.

When conducting the representative payee reviews, which may include beneficiary, legal guardian, or third party interviews, the reviewer may observe a health or safety issue, or any other issue negatively affecting the beneficiary's well-being, that requires a referral to an appropriate local, state, or federal agency or entity with responsibility for investigating or addressing these issues. We are proposing a new routine use to permit us to disclose personal information relevant and necessary to make these referrals to such agencies or entities when the reviewer determines that the beneficiary's safety or well-being may be in jeopardy.

II. Proposed New Routine Use

The Privacy Act requires that agencies publish a notice in the Federal Register of “each routine use of the records contained in the system, including the categories of users and the purpose of such use.” 5 U.S.C. 552a(e)(4)(D). We have developed the following new routine use that will allow us to disclose information to a local, state, or federal agency, under the circumstances described above.

• To agencies or entities with responsibility for investigating or addressing possible financial exploitation of, an immediate health or safety threat to, or other serious risk to the well-being of the beneficiary, for referral, when these issues are identified during a representative payee review.

We will include the new routine use in the following systems of records:

System No. and name | New routine use | Federal Register citation No./publication date
60-0058—Master Files of Social Security Number Holders and SSN Applications | No. 49 | 75 FR 82121, 12/29/10. 78 FR 40542, 07/05/13. 79 FR 78780, 02/13/14.
60-0090—Master Beneficiary Record | No. 42 | 71 FR 1829, 01/11/06. 72 FR 69723, 12/10/07. 78 FR 40542, 07/05/13.
60-0103—Supplemental Security Income Record and Special Veterans Benefits | No. 40 | 71 FR 1830, 01/11/06. 72 FR 69723, 12/10/07.
60-0222—Master Representative Payee File | No. 23 | 78 FR 23811, 04/22/13.

SSA will disclose only those elements from SSA's systems of records that are necessary to make the appropriate referral for services to the appropriate agency or entity.

We are not republishing in their entirety the SORNs to which we are adding the proposed new routine use. Instead, we are republishing only the identification number, name of the systems of records, the numbers of the new routine use, and the issue of the Federal Register in which the system of records notice was last published, including the publication date and number.

In accordance with 5 U.S.C. 552a(r), we have provided a report to OMB and Congress on these modified systems of records.

Dated: May 23, 2018.
Mary Ann Zimmerman,
Acting Executive Director, Office of Privacy and Disclosure, Office of the General Counsel.

[FR Doc. 2018-14247 Filed 7-2-18; 8:45 am]

BILLING CODE 4191-02-P